DEPARTMENT OF TRANSPORTATION

Federal Aviation Administration

14 CFR Part 39

[Docket No. FAA-2006-26250; Directorate Identifier 2006-NM-104-AD]

RIN 2120-AA64

Airworthiness Directives; Airbus Model A300 B4-600, B4-600R, and F4-600R Series Airplanes, and Model C4-605R Variant F Airplanes (Collectively Called A300-600 Series Airplanes)

AGENCY: Federal Aviation Administration (FAA), Department of Transportation (DOT).

ACTION: Notice of proposed rulemaking (NPRM).

SUMMARY: The FAA proposes to adopt a new airworthiness directive (AD) for certain Airbus Model A300-600 airplanes. This proposed AD would require an inspection to determine if certain spoiler actuators having certain part numbers are installed, and eventual replacement of all affected actuators. This proposed AD results from failure of a distribution block, which was detected during fatigue qualification tests of certain spoiler actuators. We are proposing this AD to prevent failure of the distribution block, which could result in leakage of the hydraulic fluid that supplies those actuators. This failure could cause failure of one of the three spoiler actuators and the associated hydraulic circuits, which could result in loss of those hydraulic circuits and consequent reduced controllability of the airplane.

DATES: We must receive comments on this proposed AD by December 6, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Airbus, 1 Rond Point Maurice Bellonte, 31707 Blagnac Cedex, France, for service information identified in this proposed AD.

FOR FURTHER INFORMATION CONTACT: Tom Stafford, Aerospace Engineer, International Branch, ANM-116, FAA, Transport Airplane Directorate, 1601 Lind Avenue, SW., Renton, Washington 98057-3356; telephone (425) 227-1622; fax (425) 227-1149.

SUPPLEMENTARY INFORMATION:

Comments Invited

We invite you to submit any relevant written data, views, or arguments regarding this proposed AD. Send your comments to an address listed in the ADDRESSES section. Include the docket number “FAA-2006-26250; Directorate Identifier 2006-NM-104-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The Direction Générale de l'Aviation Civile (DGAC), which is the airworthiness authority for France, notified us that an unsafe condition may exist on certain Airbus Model A300-600 series airplanes. The DGAC advises that during fatigue qualification tests of certain spoiler actuators a failure of the distribution block was detected. This failure could lead to a leak of the hydraulic fluid that supplies the actuator, and could cause failure of one of the three spoiler actuators and the associated hydraulic circuits, which could result in loss of those hydraulic circuits. This condition, if not corrected, could result in reduced controllability of the airplane.

Relevant Service Information

Airbus has issued Service Bulletin A300-27-6057, including Appendix 01, dated May 17, 2005. The service bulletin describes procedures for an inspection to determine if certain spoiler actuators having certain part numbers are installed, and eventual replacement of all affected actuators. Accomplishing the actions specified in the service information is intended to adequately address the unsafe condition. The DGAC mandated the service information and issued French airworthiness directive F-2005-125, dated July 20, 2005, to ensure the continued airworthiness of these airplanes in France.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for airplanes of this type design that are certificated for operation in the United States.

Therefore, we are proposing this AD, which would require accomplishing the actions specified in the service information described previously.

Costs of Compliance

This proposed AD would affect about 1 airplane of U.S. registry.

The proposed inspection would take about 1 hour per airplane, at an average labor rate of $80 per hour. Based on these figures, the estimated cost of the proposed inspection for U.S. operators is $80.

The proposed replacements, if accomplished, would take about 5 work hours per airplane, at an average labor rate of $80 per work hour. Required parts cost would be minimal. Based on these figures, the estimated cost of the proposed replacements for U.S. operators is $400.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the National Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Airbus: Docket No. FAA-2006-26250; Directorate Identifier 2006-NM-104-AD.

Comments Due Date

(a) The FAA must receive comments on this AD action by December 6, 2006.

Affected ADs

(b) None.

Applicability

(c) This AD applies to Airbus Model A300-600 airplanes; certificated in any category; as identified in Airbus Service Bulletin A300-27-6057, dated May 17, 2005.

Unsafe Condition

(d) This AD results from failure of a distribution block, which was detected during fatigue qualification tests of certain spoiler actuators. We are issuing this AD to prevent failure of the distribution block, which could result in leakage of the hydraulic fluid that supplies those actuators. This failure could cause failure of one of the three spoiler actuators and the associated hydraulic circuits, which could result in loss of those hydraulic circuits and consequent reduced controllability of the airplane.

Compliance

(e) You are responsible for having the actions required by this AD performed within the compliance times specified, unless the actions have already been done.

Inspection for Actuator Part Numbers and Corrective Action

(f) Within 700 flight hours after the effective date of this AD: Inspect to determine if a spoiler actuator with part number P376A0002-04 or P376A0002-08 is installed, by doing all the applicable actions in accordance with the Accomplishment Instructions of Airbus Service Bulletin A300-27-6057, excluding Appendix 01, dated May 17, 2005.

(1) If no actuator with either identified part number is installed, no further action is required by this paragraph.

(2) If any actuator with any identified part number is installed and the three associated hydraulic circuits are affected (at least one actuator supplied by the yellow circuit and at least one actuator supplied by the blue circuit and at least one actuator supplied by the green circuit): Within 100 flight hours after accomplishing the inspection required by paragraph (f) of this AD, replace all affected actuators on one of the hydraulic circuits with new actuators in accordance with the service bulletin. Within 12 months after accomplishing that replacement, replace all the remaining affected actuators with new actuators in accordance with the service bulletin.

(3) If any actuator with any identified part number is installed and one or two of the associated hydraulic circuits are affected: Within 12 months after accomplishing the inspection required by paragraph (f) of this AD, replace all affected actuators with new actuators in accordance with the service bulletin.

Parts Installation

(g) After the effective date of this AD, no spoiler actuator with part number P376A0002-04 or P376A0002-08 may be installed on any airplane.

No Reporting Required

(h) Although Airbus Service Bulletin A300-27-6057, excluding Appendix 01, dated May 17, 2005, specifies to submit an inspection report to the manufacturer, this AD does not include that requirement.

Alternative Methods of Compliance (AMOCs)

(i)(1) The Manager, International Branch, ANM-116, FAA, Transport Airplane Directorate, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(j) French airworthiness directive F-2005-125, dated July 20, 2005, also addresses the subject of this AD.

Issued in Renton, Washington, on October 30, 2006.
Kalene C. Yanamura,
Acting Manager, Transport Airplane Directorate, Aircraft Certification Service.

[FR Doc. E6-18685 Filed 11-3-06; 8:45 am]

BILLING CODE 4910-13-P